DEPARTMENT OF THE TREASURY

Submission for OMB Review; Comment Request

September 7, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before October 13, 2006 to be assured of consideration.

Internal Revenue Service (IRS)

OMB Number: 1545-0142.

Type of Review: Extension.

Title: Underpayment of Estimated Tax by Corporations.

Form: 2220.

Description: Form 2220 is used by corporations to determine whether they are subject to the penalty for underpayment of estimated tax and, if so, the amount of the penalty. The IRS uses Form 2220 to determine if the penalty was correctly computed.

Respondents: Businesses or other for-profit institutions.

Estimated Total Burden Hours: 23,633,634 hours.

OMB Number: 1545-1359.

Type of Review: Extension.

Title: Information Reporting by Passport and Permanent Residence Applicants.

Description: The regulation requires applicants for passports and permanent residence status to report certain tax information on the applications. The regulations are intended to give the Service notice of non-filers and of persons with foreign source income not subject to normal withholding, and to notify such persons of their duty to file U.S. tax returns.

Respondents: Individuals or households.

Estimated Total Burden Hours: 750,000 hours.

OMB Number: 1545-0935.

Type of Review: Revision.

Title: U.S. Income Tax Return of a Foreign Sales Corporations (FSC); Schedule P, Transfer Price or Commission.

Form: 1120-FSC.

Description: Form 1120-FSC is filed by foreign corporations that have elected to be FSCs or small FSCs. The FSC uses Form 1120-FSC to report income and expenses and to figure its tax liability. IRS uses Form 1120-FSC and Schedule P (Form 1120-FSC) to determine whether the FSC has correctly reported its income and expenses and figured its tax liability correctly.

Respondents: Businesses or other for-profit institutions.

Estimated Total Burden Hours: 1,089,500 hours.

OMB Number: 1545-0956.

Type of Review: Extension.

Title: Annual Return of One-Participant (Owners and Their Spouses) Retirement Plan.

Form: 5500-EZ.

Description: Form 5500-EZ is an annual return filed by a one-participant or one-participant and spouse pension plan. The IRS uses this data to determine if the plan appears to be operating properly as required under the law or whether the plan should be audited.

Respondents: Businesses or other for-profit institutions.

Estimated Total Burden Hours: 6,770,000 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Robert Dahl,
Treasury PRA Clearance Officer.

[FR Doc. E6-15207 Filed 9-12-06; 8:45 am]

BILLING CODE 4830-01-P